DEPARTMENT OF COMMERCE

International Trade Administration

A-423-808

Stainless Steel Plate in Coils from Belgium: Final Results of Antidumping Duty Administrative Review

AGENCY: Import Administration, International Trade Administration, U.S. Department of Commerce.

SUMMARY: On June 10, 2004, the Department of Commerce (the Department) published the preliminary results of its administrative review of the antidumping duty order on certain stainless steel plate in coils from Belgium. See Stainless Steel Plate in Coils from Belgium: Preliminary Results of Antidumping Duty Administrative Review, 69 FR 32501 (June 10, 2004) (Preliminary Results). The review covers shipments of this merchandise to the United States during the period from May 1, 2002, through April 30, 2003, by Ugine & ALZ, N.V. Belgium (U&A Belgium).

We gave interested parties an opportunity to comment on our preliminary results. Based on our analysis of the comments received, we have made changes to the preliminary results. For the final dumping margins see the “Final Results of Review” section below.

EFFECTIVE DATE: December 14, 2004.

FOR FURTHER INFORMATION CONTACT: Elfi Blum or Toni Page at (202) 482-0197 or (202) 482-1398, respectively; AD/CVD, Office 6, Import Administration, International Trade Administration, U.S. Department of Commerce, 14th Street and Constitution Avenue, NW, Washington, DC 20230.

SUPPLEMENTARY INFORMATION:

Background

On June 10, 2004, the Department published the preliminary results of its administrative review of the antidumping duty order on certain stainless steel plate in coils from Belgium. See Preliminary Results. In the Preliminary Results, we determined that U.S. sales had been made below normal value (NV). We gave interested parties an opportunity to comment on our preliminary results. On October 27, 2004, we received case briefs from Allegheny Ludlum, AK Steel Corporation, Butler Armco Independent Union, United Steelworkers of America, AFL-CIO/CLC, and Zanesville Armco Independent Organization (Petitioners) and U&A Belgium (Respondent). On November 3, 2004, both parties filed rebuttal briefs. Neither party requested a hearing. The Department has now completed this review in accordance with section 751(a) of the Tariff Act of 1930, as amended (the Act).

Scope of the Antidumping Duty Order

Effective March 11, 2003, in accordance with Allegheny Ludlum Corp. v. United States, 287 F.3d 1365 (Fed. Cir. 2002) remanded to CIT No. 99-06-00361, slip op. 2002-147 (CIT Dec. 12, 2002), and Notice of Amended Antidumping Duty Orders: Certain Stainless Steel Plate in Coils from Belgium, Canada, Italy, the Republic of Korea, South Africa, and Taiwan, 68 FR 11520 (March 11, 2003), the scope of this order was amended. Therefore, for purposes of this review, two separate scopes were in effect. These scopes are set forth below. Respondent has appropriately reported only those U.S. sales during the relevant period covered by each scope.

Scope of Order from May 1, 2002, through March 10, 2003

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order are the following: (1) plate not in coils, (2) plate that is not annealed or otherwise heat treated and pickled or otherwise descaled, (3) sheet and strip, and (4) flat bars. In addition, certain cold-rolled stainless steel plate in coils is also excluded from the scope of this order. The excluded cold-rolled stainless steel plate in coils is defined as that merchandise which meets the physical characteristics described above that has undergone a cold-reduction process that reduced the thickness of the steel by 25 percent or more, and has been annealed and pickled after this cold reduction process.

The merchandise subject to this order is currently classifiable in the Harmonized Tariff Schedule of the United States (HTSUS) at subheadings: 7219110030, 7219110060, 7219120005, 7219120020, 7219120025, 7219120050, 7219120055, 7219120065, 7219120070, 7219120080, 7219310010, 7219900010, 7219900020, 7219900025, 7219900060, 7219900080, 7220110000, 7220201010, 7220201015, 7220201060, 7220201080, 7220206005, 7220206010, 7220206015, 7220206060, 7220206080, 7220900010, 7220900015, 7220900060, and 7220900080. Although the HTSUS subheadings are provided for convenience and customs purposes, the written description of the scope of this order is dispositive.

Scope of Order On or After March 11, 2003

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order are the following: (1) plate not in coils, (2) plate that is not annealed or otherwise heat treated and pickled or otherwise descaled, (3) sheet and strip, and (4) flat bars.

The merchandise subject to this order is currently classifiable in the HTSUS at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the written description of the merchandise subject to these orders is dispositive.

Verification

As provided in section 782(i) of the Act, we verified the information submitted by U&A Belgium for use in our final results. We used standard verification procedures, including on-site examination of relevant accounting and production records and original source documents provided by U&A Belgium. Additionally, we verified the information provided by U&A Belgium's U.S. subsidiaries, TrefilARBED and Arcelor Stainless U.S.A. Our verification results are outlined in the Memorandum to The File Through Maureen Flannery from Scot Fullerton and Elfi Blum: Sales and Cost Verification of Ugine & ALZ Belgium, N.V. in the Antidumping Administrative Review of Stainless Steel Plate in Coils (SSPC) from Belgium (October 6, 2004) (U&A Belgium Verification Report) and Memorandum to The File Through Maureen Flannery from Scot Fullerton and Elfi Blum: U.S. Sales Verification of TrefilARBED (Trefil) and Arcelor Stainless U.S.A. in the Antidumping Administrative Review of Stainless Steel Plate in Coils (SSPC) from Belgium (October 6, 2004) (U.S. Verification Report).

Affiliation of Parties

In the Preliminary Results, we found that Arbed S.A., parent company of ALZ, N.V., is affiliated with Usinor, Arcelor, and Aceralia and their subsidiaries. No parties commented on our findings. Therefore, for these final results, we continue to determine that Arbed S.A. is affiliated with Usinor, Arcelor, and Aceralia and their subsidiaries. For a complete discussion of the basis for this decision, see the Preliminary Results, 69 FR 32501, 32502-32503.

Successorship.

In the Preliminary Results, we found that U&A Belgium is the successor to ALZ, N.V. No parties commented on our findings. Therefore, for these final results we continue to determine that U&A Belgium is the successor to ALZ, N.V. for purposes of determining antidumping duty liability. For a complete discussion of the basis for this decision, see the Preliminary Results, 69 FR 32501, 32503. Therefore, U&A Belgium shall be assigned the antidumping duty deposit rate in these Final Results.

Analysis of Comments Received

All issues raised in the case and rebuttal briefs by parties to this administrative review are addressed in the Issues and Decision Memorandum from Barbara E. Tillman, Acting Deputy Assistant Secretary for Import Administration to James J. Jochum, Assistant Secretary for Import Administration: Issues and Decision Memorandum for the Final Results of the Fourth Administrative Review, dated December 7, 2004 (Decision Memo), which is hereby adopted by this notice.

A list of the issues which parties have raised and to which we have responded, all of which are included in the Decision Memo, is attached to this notice as an appendix. Parties can find a complete discussion of all issues raised in this review and the corresponding recommendations in this memorandum, which is on file in the Central Records Unit, room B-099 of the main Commerce Building. In addition, a complete version of the Decision Memo can be accessed directly on the Web at http://ia.ita.doc.gov. The paper copy and electronic version of the Decision Memo are identical in content.

Changes Since the Preliminary Results

Based on our analysis of comments received and our findings at the on-site verification, we have made certain changes in the margin calculations for U&A Belgium. We have also addressed the alleged ministerial errors submitted in the briefs. For further detail, see the Decision Memo and the Memorandum to The File from Toni Page and Elfi Blum to Maria MacKay: Analysis for Ugine & ALZ, N.V. Belgium (U&A Belgium) for the Final Results of the Fourth Administrative Review of Stainless Steel Plate in Coils (SSPC) from Belgium (December 7, 2004).

Final Results of Review

As a result of our review, we determine the antidumping margin for Ugine & ALZ Belgium (U&A Belgium) to be as follows:

Manufacturer/Exporter | Time Period | Margin
U&A Belgium | 05/01/2002 - 04/30/2003 | 4.07 percent

Duty Assessment

The Department shall determine, and U.S. Customs and Border Protection (CBP) shall assess, antidumping duties on all appropriate entries. Pursuant to 19 CFR 351.212(b), the Department calculates an assessment rate for each importer of the subject merchandise for each respondent. The Department will issue appropriate assessment instructions directly to CBP within 15 days of publication of the final results of review.

Cash Deposit Requirements

The following antidumping duty deposit rates will be required on all shipments of SSPC from Belgium entered, or withdrawn from warehouse, for consumption on or after the publication date of these final results, as provided for by section 751(a)(1) of the Act: (1) for U&A Belgium, the cash deposit rate will be the rate established in the final results of this review; (2) for previously reviewed or investigated companies other than U&A Belgium, the cash deposit rate will be the company-specific rate established for the most recent period; (3) if the exporter is not a firm covered in this review, a prior review, or the less-than-fair-value (LTFV) investigation, but the manufacturer is, the cash deposit rate will be the rate established for the most recent period for the manufacturer of the subject merchandise; and (4) if neither the exporter nor the manufacturer is a firm covered by this review, a prior review, or the LTFV investigation, the cash deposit rate shall be the all others rate established in the LTFV investigation, which is 9.86 percent ad valorem. See Notice of Final Determination of Sales at Less Than Fair Value: Stainless Steel Plate in Coils from Belgium, 64 FR 15476 (March 31, 1999). These deposit rates, when imposed, shall remain in effect until publication of the final results of the next administrative review.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties, pursuant to 19 CFR 351.402(f)(3).

Notification Regarding APOs

This notice also serves as a reminder to parties subject to administrative protective orders (APO) of their responsibility concerning the disposition of proprietary information disclosed under APO in accordance with 19 CFR 351.305. Timely written notification of the return/destruction of APO materials or conversion to judicial protective order is hereby requested. Failure to comply with the regulations and terms of an APO is a sanctionable violation.

This administrative review and notice are in accordance with sections 751(a)(1) and 777(i)(1) of the Act.

Dated: December 7, 2004.
Joseph A. Spetrini,
Acting Assistant Secretary for Import Administration.

APPENDIX

List of Issues

1. Changes in Methodology for Sale without Pay Date

2. U.S. Indirect Selling Expenses/General and Administrative (G&A) Expenses

3. Home-Market Commissions (COMM1H) and Indirect Selling Expenses (INDIRSH)

4. Products Hot-Rolled in Germany

5. Scope Language

6. The Reporting of Home-Market and U.S. Sales of Cold-Rolled SSPC

7. Start-Up Costs Incurred by U&A Belgium

8. Offsetting Margins with Above-Normal Value Transactions

9. Ministerial Errors: Constructed Export Price Revenue Calculation and Merging Dates of Payment

[FR Doc. E4-3641 Filed 12-13-04; 8:45 am]

BILLING CODE 3510-DS-S